DEPARTMENT OF HOMELAND SECURITY

Office of the Secretary

[DHS-2007-0022]

Data Privacy and Integrity Advisory Committee

AGENCY: Office of the Secretary, Department of Homeland Security.

ACTION: Notice of Federal Advisory Committee Meeting.

SUMMARY: The Data Privacy and Integrity Advisory Committee will meet on May 7, 2007 in Arlington, VA. This meeting will be open to the public.

DATES: The Data Privacy and Integrity Advisory Committee will meet on Monday, May 7, 2007 from 10 a.m. to 12 p.m. Please note that the meeting may close early if the committee has completed its business.

ADDRESSES: The meeting will be held in the in the Town Hall at the Transportation Security Administration, 601 South 12th Street, Arlington, Virginia 22202. Send any written material for the meeting or comments for the Committee to Ken Hunt, Executive Director, Data Privacy and Integrity Advisory Committee, Department of Homeland Security, Washington, DC 20528. Written materials for the meeting or comments for the committee should reach the contact person listed by May 2, 2007. Requests to have a copy of your material distributed to each member of the committee prior to the meeting should reach the persons listed under FOR FURTHER INFORMATION CONTACT below, by May 2, 2007. All submissions received must include the docket number: DHS-2007-0022 and may be submitted by any one of the following methods:

• Federal Rulemaking Portal: http://www.regulations.gov. Follow instructions for submitting comments on the Web site.

• E-mail: PrivacyCommittee@dhs.gov. Include docket number in the subject line of the message.

• Fax: (866) 466-5370.

• Mail: Mr. Ken Hunt, Executive Director, Data Privacy and Integrity Advisory Committee, Department of Homeland Security, Washington, DC 20528.

Instructions: All submissions received must include the words “Department of Homeland Security Data Privacy and Integrity Advisory Committee” and the docket number: DHS-2007-0022. Comments received on this notice will also be posted without alteration at http://www.regulations.gov, including any personal information provided.

Docket: For access to the docket to read background documents or comments received by the DHS Data Privacy and Integrity Committee, go to http://www.regulations.gov.

FOR FURTHER INFORMATION CONTACT: Hugo Teufel III, Chief Privacy Officer, or Ken Hunt, Executive Director, Data Privacy and Integrity Advisory Committee, Department of Homeland Security, Washington, DC 20528, by telephone (571) 227-3813, by fax (571) 227-4171, or by e-mail PrivacyCommittee@dhs.gov.

SUPPLEMENTARY INFORMATION: Notice of this meeting is given under the Federal Advisory Committee Act, 5 U.S.C. App. (Pub. L. 92-463).

During the meeting, the Data Privacy and Integrity Advisory Committee will discuss its recommendations on Notice of Proposed Rule Making (NPRM), Minimum Standards for Driver's Licenses and Identification Cards Acceptable by Federal Agencies for Official Purposes, 72 FR 10820 (March 9, 2007), implementing the REAL ID Act. Division B—REAL ID Act of 2005, the Emergency Supplemental Appropriations Act for Defense, the Global War on Terror, and Tsunami Relief, 2005, Pub. L. 109-13, 119 Stat. 231, 301 (2005) (codified at 49 U.S.C. 30301 note). The committee will hear a Subcommittee report and deliberate on those findings. A tentative agenda has been posted on the Privacy Advisory Committee Web site at http://www.dhs.gov/privacy.

The committee will not solicit oral comments from the public during the meeting. Interested individuals may submit written comments on the meeting/subcommittee recommendations to the Committee following one of the methods described in this notice. Comments on the meeting will be considered by the Committee in the development of any final recommendations on the REAL ID program for submission to the Chief Privacy Officer

Notice of this meeting appears in the Federal Register for less than fifteen calendar days, because the DHS Privacy Office moved and did not have access to the electronic equipment and network necessary to complete the notice on time.

Information on Services for Individuals With Disabilities

For information on facilities or services for individuals with disabilities or to request special assistance at the meeting, contact Ken Hunt as soon as possible.

Dated: April 20, 2007.
Hugo Teufel III,
Chief Privacy Officer.

[FR Doc. E7-8059 Filed 4-26-07; 8:45 am]

BILLING CODE 4410-10-P